NUCLEAR REGULATORY COMMISSION

[NRC-2020-0087]

Plant Security Force Duties

AGENCY: Nuclear Regulatory Commission.

ACTION: Regulatory guide; withdrawal.

SUMMARY: The U.S. Nuclear Regulatory Commission (NRC) is withdrawing Regulatory Guide (RG) 5.43, “Plant Security Force Duties.” RG 5.43 was published in January 1975 to provide guidance to applicants and licensees subject to NRC regulations on the organization of plant security forces and the duties of guards, watchmen, and other individuals responsible for security, as described in their facilities' security plans. RG 5.43 is being withdrawn because it contains regulatory guidance that is out of date and is no longer the preferred method for these applicants and licensees to use to meet the requirements. Future applicants and licensees may use several other more relevant regulatory guidance documents to meet those regulatory requirements.

DATES: The withdrawal of RG 5.43 takes effect on April 29, 2020.

ADDRESSES: Please refer to Docket ID NRC-2020-0087 when contacting the NRC about the availability of information regarding this document. You may obtain publicly-available information related to this document using any of the following methods:

• Federal Rulemaking website: Go to https://www.regulations.gov and search for Docket ID NRC-2020-0087. Address questions about NRC docket IDs in regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The basis for withdrawal of RG 5.43 is available in ADAMS under Accession No. ML20048A081.

FOR FURTHER INFORMATION CONTACT: Joseph Willis, Office of Nuclear Security Incident Response, telephone: 301-287-3667, email: Joseph.Willis@nrc.gov, and Mekonen Bayssie, Office of Nuclear Regulatory Research, telephone: 301-415-1669, email: Mekonen.Bayssie@nrc.gov. Both are staff of the U.S. Nuclear Regulatory Commission, Washington, DC 20555-0001.

SUPPLEMENTARY INFORMATION:

I. Background

The NRC is withdrawing RG 5.43, “Plant Security Force Duties,” because the guide no longer provides NRC staff-preferred methods for certain applicants and licensees to meet the NRC's regulatory requirements in section 73.50 of title 10 of the Code of Federal Regulations (CFR), “Requirements for physical protection of licensed activities,” and 73.60, “Additional requirements for physical protection at nonpower reactors.” Furthermore, the NRC staff has issued several other more relevant regulatory guidance documents that applicants and licensees may use to meet 10 CFR 73.50 and 73.60. The basis for withdrawal of RG 5.43 is available in ADAMS under Accession No. ML20048A081.

II. General Consideration

The withdrawal of RG 5.43 does not alter any prior or existing NRC licensing approvals, or the acceptability of licensee commitments made regarding the withdrawn guidance. Although RG 5.43 is withdrawn, current licensees referencing this RG may continue to do so, and withdrawal does not affect any existing licenses or agreements. However, by withdrawing RG 5.43, the NRC no longer approves use of the guidance in future requests or applications for NRC licensing actions.

Dated: April 23, 2020.
For the Nuclear Regulatory Commission.
Thomas H. Boyce,
Chief, Regulatory Guidance and Generic Issues Branch, Division of Engineering, Office of Nuclear Regulatory Research.

[FR Doc. 2020-09053 Filed 4-28-20; 8:45 am]

BILLING CODE 7590-01-P